DEPARTMENT OF DEFENSE

Office of the Secretary of Defense

[DOD-2007-OS-0005]

Notice Pursuant to Executive Order 12600 of Receipt of Freedom of Information Act (FOIA) Requests for Access to the Central Contractor Registration (CCR) Database

AGENCY: Department of Defense, Business Transformation Agency.

ACTION: Notice.

SUMMARY: This notice provides submitter's notice pursuant to Executive Order 12600 that the Department of Defense, Office of the Secretary of Defense, Business Transformation Agency (BTA) has received several FOIA requests for access to the Central Contractor Registration (CCR) database.

The CCR is an e-Gov initiative within the Integrated Acquisition Environment (IAE) and serves as the core system for the IAE's Business Partner Network (BRN). The Department of Defense manages the CCR on behalf of the IAE. The primary objective of the CCR is to provide a web-based application that provides a single source of vendor information in support of the contract award and the electronic payment process of the Federal Government. The CCR is also a registration system for grants and assistance awards. The CCR has 194 data fields, some of which are exempt from disclosure pursuant to Exemptions 2, and/or 4 and/or 6 of Freedom of Information Act (FOIA), 5 U.S.C. 552(b)(2), (b)(4) & (b)(6). The following table contains a description of these data fields and their exempt status.

DATES: Comments must be received on or before June 12, 2007. Do not submit comments directly to the point of contact or mail your comments to any address other than what is shown below. Doing so will delay the posting of the submission.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160

Instructions: All submissions received must include the agency name and docket number or Regulatory Information Number (RIN) for this Federal Register document. The general policy for comments and other submissions from members of the public is to make these submissions available for public viewing on the Internet at http://regulations.gov as they are received without change, including any personal identifiers or contact information.

April 9, 2007.
L.M. Bynum,
Alternate OSD Federal Register Liaison Officer, DoD.

FOIA Review of the CCR Data Fields
Data field | Exempt status
1) Data Universal Numbering System (DUNS) | 5 U.S.C. 552(b)(4).
2) DUNS-Plus 4 | 5 U.S.C. 552(b)(4).
3) CAGE Code | Not exempt under the FOIA.
4) CCR Extract Code | Not exempt under the FOIA.
5) Registration Date | Not exempt under the FOIA.
6) Renewal Date | Not exempt under the FOIA.
7) Legal Business Name | Not exempt under the FOIA.
8) DBA Name | Not exempt under the FOIA.
9) Company Division | Not exempt under the FOIA.
10) Division Number | Not exempt under the FOIA.
11) Street Address (1) | Not exempt under the FOIA.
12) Street Address (2) | Not exempt under the FOIA.
13) City | Not exempt under the FOIA.
14) State or Province | Not exempt under the FOIA.
15) Postal Code | Not exempt under the FOIA.
16) Country Code | Not exempt under the FOIA.
17) Business Start Date | Not exempt under the FOIA.
18) Fiscal Year End Close Date | Not exempt under the FOIA.
19) Company Security Level | 5 U.S.C. 552(b)(2) & (b)(4).
20) Employee Security Level | 5 U.S.C. 552(b)(2) & (b)(4).
21) Corporate URL | Not exempt under the FOIA.
22) Organizational Type | Not exempt under the FOIA.
23) State of Incorporation | Not exempt under the FOIA.
24) Country of Incorporation | Not exempt under the FOIA.
25) Business Types | Not exempt under the FOIA.
26) SIC Code | Not exempt under the FOIA.
27) NAICS Code | Not exempt under the FOIA.
28) FSC Code | Not exempt under the FOIA.
29) PSC Code | Not exempt under the FOIA.
30) Credit Card (y/n) | Not exempt under the FOIA.
31) Correspondence Flag | Not exempt under the FOIA.
32) Mailing Address POC (FE) | Not exempt under the FOIA.
33) Mailing Address Street Address (1) | Not exempt under the FOIA.
34) Mailing Address Street Address (2) | Not exempt under the FOIA.
35) Mailing Address City | Not exempt under the FOIA.
36) Mailing Address Postal Code | Not exempt under the FOIA.
37) Mailing Address Country Code | Not exempt under the FOIA.
38) Mailing Address State/Province | Not exempt under the FOIA.
39) Previous Business POC (B3) | Not exempt under the FOIA.
40) Previous Street Address (1) | Not exempt under the FOIA.
41) Previous Street Address (2) | Not exempt under the FOIA.
42) Previous Business City | Not exempt under the FOIA.
43) Previous Business Postal Code | Not exempt under the FOIA.
44) Previous Business Country Code | Not exempt under the FOIA.
45) Previous Business State/Province | Not exempt under the FOIA.
46) Parent POC (B4) | 5 U.S.C. 552(b)(4).
47) Parent DUNS Number | 5 U.S.C. 552(b)(4).
48) Parent Street Address (1) | 5 U.S.C. 552(b)(4).
49) Parent Street Address (2) | 5 U.S.C. 552(b)(4).
50) Parent City | 5 U.S.C. 552(b)(4).
51) Parent Postal Code | 5 U.S.C. 552(b)(4).
52) Parent Country Code | 5 U.S.C. 552(b)(4).
53) Parent State or Province | 5 U.S.C. 552(b)(4).
54) Party Performance Cert POC (PV) | Not exempt under the FOIA.
55) Party Performance Cert Street Address (1) | Not exempt under the FOIA.
56) Party Performance Cert Street Address (2) | Not exempt under the FOIA.
57) Party Performance Cert City | Not exempt under the FOIA.
58) Party Performance Cert Postal Code | Not exempt under the FOIA.
59) Party Performance Cert Country Code | Not exempt under the FOIA.
60) Party Performance Cert State/Province | Not exempt under the FOIA.
61) Government Parent POC (QW) | 5 U.S.C. 552(b)(4).
62) Government Parent Street Address (1) | 5 U.S.C. 552(b)(4).
63) Government Parent Street Address (2) | 5 U.S.C. 552(b)(4).
64) Government Parent City | 5 U.S.C. 552(b)(4).
65) Government Parent Postal Code | 5 U.S.C. 552(b)(4).
66) Government Parent Country Code | 5 U.S.C. 552(b)(4).
67) Government Parent State/Province | 5 U.S.C. 552(b)(4).
68) Government Business POC (60) | Not exempt under the FOIA.
69) Government Business Street Address (1) | Not exempt under the FOIA.
70) Government Business Street Address (2) | Not exempt under the FOIA.
71) Government Business City | Not exempt under the FOIA.
72) Government Business Postal Code | Not exempt under the FOIA.
73) Government Business Country Code | Not exempt under the FOIA.
74) Government Business State or Province | Not exempt under the FOIA.
75) Government Business U.S. Phone | Not exempt under the FOIA.
76) Government Business U.S. Phone Ext | Not exempt under the FOIA.
77) Government Business Non-U.S. Phone | Not exempt under the FOIA.
78) Government Business Fax U.S. Only | Not exempt under the FOIA.
79) Government Business E-mail | Not exempt under the FOIA.
80) Alternate Government Business POC (60) | Not exempt under the FOIA.
81) Alternate Government Business Street Address (1) | Not exempt under the FOIA.
82) Alternate Government Business Street Address (1) | Not exempt under the FOIA.
83) Alternate Government Business City | Not exempt under the FOIA.
84) Alternate Government Parent Postal Code | Not exempt under the FOIA.
85) Alternate Government Business Country Code | Not exempt under the FOIA.
86) Alternate Government Parent State/Province | Not exempt under the FOIA.
87) Alternate Government Business U.S. Phone | Not exempt under the FOIA.
88) Alternate Government Business U.S. Phone Ext | Not exempt under the FOIA.
89) Alternate Government Business Non-U.S. Phone | Not exempt under the FOIA.
90) Alternate Government Business Fax U.S. Only | Not exempt under the FOIA.
91) Alternate Government Business E-mail | Not exempt under the FOIA.
92) Past Performance POC (R2) | Not exempt under the FOIA.
93) Past Performance Street Address (1) | Not exempt under the FOIA.
94) Past Performance Street Address (2) | Not exempt under the FOIA.
95) Past Performance City | Not exempt under the FOIA.
96) Past Performance Postal Code | Not exempt under the FOIA.
97) Past Performance Country Code | Not exempt under the FOIA.
98) Past Performance State or Province | Not exempt under the FOIA.
99) Past Performance U.S. Phone | Not exempt under the FOIA.
100) Past Performance U.S. Phone Ext | Not exempt under the FOIA.
101) Past Performance Non-U.S. Phone | Not exempt under the FOIA.
102) Past Performance Fax U.S. Only | Not exempt under the FOIA.
103) Past Performance E-mail | Not exempt under the FOIA.
104) Alternate Past Performance POC (R2) | Not exempt under the FOIA.
105) Alternate Past Performance Street Address (1) | Not exempt under the FOIA.
106) Alternate Past Performance Street Address (2) | Not exempt under the FOIA.
107) Alternate Past Performance City | Not exempt under the FOIA.
108) Alternate Past Performance Postal Code | Not exempt under the FOIA.
109) Alternate Past Performance Country Code | Not exempt under the FOIA.
110) Alternate Past Perf. State/Province | Not exempt under the FOIA.
111) Alternate Past Performance U.S. Phone | Not exempt under the FOIA.
112) Alternate Past Performance U.S. Phone Ext | Not exempt under the FOIA.
113) Alternate Past Performance Non-U.S. Phone | Not exempt under the FOIA.
114) Alternate Past Performance Fax Only | Not exempt under the FOIA.
115) Alternate Past Performance E-mail | Not exempt under the FOIA.
116) Elec. Business POC (ZR) | Not exempt under the FOIA.
117) Elec. Business Street Address (1) | Not exempt under the FOIA.
118) Elec. Business Street Address (2) | Not exempt under the FOIA.
119) Elec. Business City | Not exempt under the FOIA.
120) Elec. Business U.S. Phone | Not exempt under the FOIA.
121) Elec. Business Country Code | Not exempt under the FOIA.
122) Elec. Business State or Province | Not exempt under the FOIA.
123) Elec. Business U.S. Phone | Not exempt under the FOIA.
124) Elec. Business U.S. Phone Ext | Not exempt under the FOIA.
125) Elec. Business Non-U.S. Phone | Not exempt under the FOIA.
126) Elec. Business Fax U.S. Only | Not exempt under the FOIA.
127) Elec. Business E-mail | Not exempt under the FOIA.
128) Alternate Elec. Business POC | Not exempt under the FOIA.
129) Alternate Elec. Business Street Address (1) | Not exempt under the FOIA.
130) Alternate Elec. Business Street Address (2) | Not exempt under the FOIA.
131) Alternate Elec. Business City | Not exempt under the FOIA.
132) Alternate Elec. Business Postal Code | Not exempt under the FOIA.
133) Alternate Elec. Business Country Code | Not exempt under the FOIA.
134) Alternate Elec. Business State/Province | Not exempt under the FOIA.
135) Alternate Elec. Business U.S. Phone | Not exempt under the FOIA.
136) Alternate Elec. Business U.S. Phone Ext | Not exempt under the FOIA.
137) Alternate Elec. Business Non-U.S. Phone | Not exempt under the FOIA.
138) Alternate Elec. Business Fax U.S. Only | Not exempt under the FOIA.
139) Alternate Elec. Business E-mail | Not exempt under the FOIA.
140) Certifier POC (CE) | Not exempt under the FOIA.
141) Certifier U.S. Phone | Not exempt under the FOIA.
142) Certifier U.S. Phone Ext | Not exempt under the FOIA.
143) Certifier Non-U.S. Phone | Not exempt under the FOIA.
144) Certifier Fax U.S. Only | Not exempt under the FOIA.
145) Certifier E-mail | Not exempt under the FOIA.
146) Alternate Certifier POC (IC) | Not exempt under the FOIA.
147) Alternate Certifier U.S. Phone | Not exempt under the FOIA.
148) Alternate Certifier U.S. Phone Ext | Not exempt under the FOIA.
149) Alternate Certifier Non-U.S. Phone | Not exempt under the FOIA.
150) Alternate Certifier Fax U.S. Only | Not exempt under the FOIA.
151) Alternate Certifier E-mail | Not exempt under the FOIA.
152) Corporate Information POC (CN) | Not exempt under the FOIA.
153) Corporate Information U.S. Phone | Not exempt under the FOIA.
154) Corporate Information U.S. Phone Ext | Not exempt under the FOIA.
155) Corporate Information Non-U.S. Phone | Not exempt under the FOIA.
156) Corporate Information Fax U.S. Only | Not exempt under the FOIA.
157) Corporate Information E-mail | Not exempt under the FOIA.
158) Owner Information POC (OW) | Not exempt under the FOIA.
159) Owner Information U.S. Phone | Not exempt under the FOIA.
160) Owner Information U.S. Phone Ext | Not exempt under the FOIA.
161) Owner Information Non-U.S. Phone | Not exempt under the FOIA.
162) Owner Information Fax U.S. Only | Not exempt under the FOIA.
163) Owner Information E-mail | Not exempt under the FOIA.
164) EDI (y/n) | Not exempt under the FOIA.
165) Tax Payer ID Number | 5 U.S.C. 552(b)(2) & (b)(4).
166) Average Number of Employees | Not exempt under the FOIA.
167) Annual Revenue | Not exempt under the FOIA.
168) Social Security Number | 5 U.S.C. 552(b)(4) & (b)(6).
169) Financial Institute | 5 U.S.C. 552(b)(4).
170) Account Number | 5 U.S.C. 552(b)(4).
171) ABA Routing ID | 5 U.S.C. 552(b)(4).
172) Payment Type (c or s) | 5 U.S.C. 552(b)(4).
173) Lockbox Number | 5 U.S.C. 552(b)(4).
174) Authorization Date | Not exempt under the FOIA.
175) EFT Waiver Y/N | Not exempt under the FOIA.
176) ACH U.S. Phone | 5 U.S.C. 552(b)(4).
177) ACH Non-U.S. Phone | 5 U.S.C. 552(b)(4).
178) ACH Fax | 5 U.S.C. 552(b)(4).
179) ACH E-mail | 5 U.S.C. 552(b)(4).
180) Remit Information POC (RI) | 5 U.S.C. 552(b)(4).
181) Remit Information Street Address (1) | 5 U.S.C. 552(b)(4).
182) Remit Information Street Address (2) | 5 U.S.C. 552(b)(4).
183) Remit Information City | 5 U.S.C. 552(b)(4).
184) Remit Information State/Province | 5 U.S.C. 552(b)(4).
185) Remit Information Postal Code | 5 U.S.C. 552(b)(4).
186) Remit Information Country Code | 5 U.S.C. 552(b)(4).
187) Accounts Receivables POC (AF) | 5 U.S.C. 552(b)(4).
188) Accounts Receivables U.S. Phone | 5 U.S.C. 552(b)(4).
189) Accounts Receivables U.S. Phone Ext | 5 U.S.C. 552(b)(4).
190) Accounts Receivables Non-U.S. Phone | 5 U.S.C. 552(b)(4).
191) Accounts Receivable Fax U.S. Only | 5 U.S.C. 552(b)(4).
192) Accounts Receivable E-mail | 5 U.S.C. 552(b)(4).
193) Marketing Prtner ID No. (MPIN) | 5 U.S.C. 552(b)(4).
194) Current Reg Status | Not exempt under the FOIA.

[FR Doc. E7-7010 Filed 4-12-07; 8:45 am]

BILLING CODE 5001-06-P